DEPARTMENT OF ENERGY

Federal Energy Regulatory Commission

Combined Notice of Filings #1

December 4, 2009.

Take notice that the Commission received the following electric corporate filings:

Docket Numbers: EC10-28-000.

Applicants: La Paloma Generating Company, LLC.

Description: Application for Authorization for Disposition of Jurisdictional Facilities and Request for Expedited Action of La Poloma Generating Company, LLC.

Filed Date: 12/03/2009.

Accession Number: 20091203-5086.

Comment Date: 5 p.m. Eastern Time on Thursday, December 24, 2009.

Take notice that the Commission received the following electric rate filings:

Docket Numbers: ER01-462-002.

Applicants: DPL Energy Resources, Inc.

Description: DPL Energy Resources, Inc submits Substitute First Revised Sheet 1 to its FERC Electric Rate Schedule 1, to be effective 12/27/09.

Filed Date: 11/30/2009.

Accession Number: 20091203-0010.

Comment Date: 5 p.m. Eastern Time on Monday, December 21, 2009.

Docket Numbers: ER09-412-009.

Applicants: PJM Interconnection, L.L.C.

Description: PJM Interconnection, L.L.C. status of stakeholder.

Filed Date: 12/01/2009.

Accession Number: 20091201-5165.

Comment Date: 5 p.m. Eastern Time on Tuesday, December 22, 2009.

Docket Numbers: ER09-1192-001.

Applicants: Southwest Power Pool, Inc.

Description: Southwest Power Pool, Inc submits revisions to its Bylaws to comply with FERC's 9/17/09 Orders.

Filed Date: 12/01/2009.

Accession Number: 20091202-0151.

Comment Date: 5 p.m. Eastern Time on Tuesday, December 22, 2009.

Docket Numbers: ER09-1269-002; ER09-1270-002.

Applicants: Escondido Energy Center, LLC, Chula Vista Energy Center, LLC.

Description: Supplemental Information Requested Informally by Commission Staff of Escondido Energy Center, LLC, et al.

Filed Date: 11/30/2009.

Accession Number: 20091130-5149.

Comment Date: 5 p.m. Eastern Time on Monday, December 21, 2009.

Docket Numbers: ER10-90-001.

Applicants: Lonestar Energy Partners, LLC.

Description: Lonestar Energy Partners, LLC submits the Amended Petition for Acceptance of Initial Rate Schedule, Waivers and Blanket Authority.

Filed Date: 12/02/2009.

Accession Number: 20091202-0173.

Comment Date: 5 p.m. Eastern Time on Wednesday, December 23, 2009.

Docket Numbers: ER10-92-002.

Applicants: EDF Trading North America, LLC.

Description: Notice of Non-Material Change in Status of EDF Trading North America, LLC.

Filed Date: 12/02/2009.

Accession Number: 20091202-5132.

Comment Date: 5 p.m. Eastern Time on Wednesday, December 23, 2009.

Docket Numbers: ER10-228-001.

Applicants: Star Point Wind Project LLC.

Description: Star Point Wind Project, LLC submits Substitute Original Sheet 1 et al. to FERC Electric Tariff, Original Volume 1.

Filed Date: 12/01/2009.

Accession Number: 20091202-0161.

Comment Date: 5 p.m. Eastern Time on Tuesday, December 22, 2009.

Docket Numbers: ER10-230-000.

Applicants: Kansas City Power & Light Company, KCP&L Greater Missouri Operations Company.

Description: Kansas City Power & Light Company et al. submits revised tariff sheets for the GMO open access transmission tariff revised tariff sheets for Schedule 1 etc.

Filed Date: 11/10/2009.

Accession Number: 20091112-0090.

Comment Date: 5 p.m. Eastern Time on Thursday, December 10, 2009.

Docket Numbers: ER10-238-001.

Applicants: Upper Peninsula Power Company.

Description: Upper Peninsula Power Company submits filing as a supplement to its 11/9/09 filing of revisions to Attachments D and E of Original Rate Schedule 54 etc.

Filed Date: 12/02/2009.

Accession Number: 20091202-0160.

Comment Date: 5 p.m. Eastern Time on Wednesday, December 23, 2009.

Docket Numbers: ER10-249-001.

Applicants: Illinois Power Company & Ameren Illinois.

Description: Illinois Power Co and Ameren Illinois Transmission Co submit revised Exhibit A to the Joint Ownership Agreement.

Filed Date: 12/01/2009.

Accession Number: 20091202-0152.

Comment Date: 5 p.m. Eastern Time on Friday, December 11, 2009.

Docket Numbers: ER10-328-001.

Applicants: Niagara Mohawk Power Corporation.

Description: National Grid submits errata to amendment of Formula Transmission Rate Supported by Stipulation.

Filed Date: 12/01/2009.

Accession Number: 20091202-0085.

Comment Date: 5 p.m. Eastern Time on Tuesday, December 22, 2009.

Docket Numbers: ER10-343-000.

Applicants: PJM Interconnection, L.L.C.

Description: PJM Interconnection, LLC submits executed interconnection service agreement among PJM, Worcester County Renewable Energy, LLC, and Delmarva Power and Light Company.

Filed Date: 11/30/2009.

Accession Number: 20091202-0015.

Comment Date: 5 p.m. Eastern Time on Monday, December 21, 2009.

Docket Numbers: ER10-345-000.

Applicants: Calpine Construction Finance Company, LP.

Description: Calpine Construction Finance Company, LP submits notice of cancellation to Rate Schedule FERC No 3.

Filed Date: 11/30/2009.

Accession Number: 20091202-0100.

Comment Date: 5 p.m. Eastern Time on Monday, December 21, 2009.

Docket Numbers: ER10-346-000.

Applicants: Calvert Cliffs Nuclear Power Plant LLC.

Description: Constellation Energy Nuclear Group, LLC submits a Notice of Succession and name change.

Filed Date: 11/30/2009.

Accession Number: 20091202-0047.

Comment Date: 5 p.m. Eastern Time on Monday, December 21, 2009.

Docket Numbers: ER10-347-000.

Applicants: PacifiCorp.

Description: PacifiCorp submits revised tariff sheets to Appendices A, B, and C of PacifiCorp Rate Schedule FERC 590 etc.

Filed Date: 11/30/2009.

Accession Number: 20091202-0098.

Comment Date: 5 p.m. Eastern Time on Monday, December 21, 2009.

Docket Numbers: ER10-348-000.

Applicants: PacifiCorp.

Description: PacifiCorp submits for filing informational purposes a revised Exhibit C and revised Exhibit D to its Second Revised Rate Schedule 237.

Filed Date: 11/30/2009.

Accession Number: 20091202-0097.

Comment Date: 5 p.m. Eastern Time on Monday, December 21, 2009.

Docket Numbers: ER10-349-000.

Applicants: Westar Energy, Inc.

Description: Westar Energy, Inc et al. submit notice of cancellation to First Revised Rate Schedule FERC No 171.

Filed Date: 11/30/2009.

Accession Number: 20091202-0096.

Comment Date: 5 p.m. Eastern Time on Monday, December 21, 2009.

Docket Numbers: ER10-350-000.

Applicants: Westar Energy, Inc.

Description: Westar Energy, Inc submits Notice of Cancellation to First revised Rate Schedule 174 the Electric Power Supply Agreement, dated 2/1/88.

Filed Date: 11/30/2009.

Accession Number: 20091202-0095.

Comment Date: 5 p.m. Eastern Time on Monday, December 21, 2009.

Docket Numbers: ER10-351-000.

Applicants: Westar Energy, Inc.

Description: Westar Energy, Inc et al. submit notice of cancellation to First Revised Rate Schedule FERC No 170.

Filed Date: 11/30/2009.

Accession Number: 20091202-0094.

Comment Date: 5 p.m. Eastern Time on Monday, December 21, 2009.

Docket Numbers: ER10-352-000.

Applicants: Southwest Power Pool, Inc.

Description: Southwest Power Pool, Inc submits amendments to its Open Access Transmission Tariff to include a pro forma Interim Large Generator Interconnection Agreement.

Filed Date: 12/01/2009.

Accession Number: 20091202-0049.

Comment Date: 5 p.m. Eastern Time on Tuesday, December 22, 2009.

Docket Numbers: ER10-353-000.

Applicants: Southwest Power Pool, Inc.

Description: Southwest Power Pool, Inc submits an executed service agreement for Network Integration Transmission Service.

Filed Date: 12/01/2009.

Accession Number: 20091202-0048.

Comment Date: 5 p.m. Eastern Time on Tuesday, December 22, 2009.

Docket Numbers: ER10-355-000.

Applicants: American Electric Power Service Corporation.

Description: AEP Transmission Company, LLC et al. submits request for acceptance of a formula rate to recover the costs of investments in transmission facilities.

Filed Date: 12/01/2009.

Accession Number: 20091202-0101.

Comment Date: 5 p.m. Eastern Time on Tuesday, December 22, 2009.

Docket Numbers: ER10-356-000.

Applicants: Westar Energy, Inc.

Description: Westar Energy, Inc et al. submits notice of cancellation to First Revised Rate Schedule FERC No 175.

Filed Date: 11/30/2009.

Accession Number: 20091202-0091.

Comment Date: 5 p.m. Eastern Time on Monday, December 21, 2009.

Docket Numbers: ER10-357-000.

Applicants: Westar Energy, Inc.

Description: Westar Energy, Inc submits Notice of Cancellation to First revised Rate Schedule 245 the Electric Power Supply Agreement, dated 11/2/87.

Filed Date: 11/30/2009.

Accession Number: 20091202-0090.

Comment Date: 5 p.m. Eastern Time on Monday, December 21, 2009.

Docket Numbers: ER10-358-000.

Applicants: Westar Energy, Inc.

Description: Westar Energy, Inc submits notice of cancellation to First Revised Rate Schedule FERC No 169.

Filed Date: 11/30/2009.

Accession Number: 20091202-0089.

Comment Date: 5 p.m. Eastern Time on Monday, December 21, 2009.

Docket Numbers: ER10-359-000.

Applicants: Westar Energy, Inc.

Description: Westar Energy, Inc submits Notice of Cancellation to First revised Rate Schedule 179 the Electric Power Supply Agreement, dated 12/8/87.

Filed Date: 11/30/2009.

Accession Number: 20091202-0088.

Comment Date: 5 p.m. Eastern Time on Monday, December 21, 2009.

Docket Numbers: ER10-360-000.

Applicants: Westar Energy, Inc.

Description: Westar Energy, Inc submits Notice of Cancellation to First Revised Rate Schedule FERC 172 etc.

Filed Date: 11/30/2009.

Accession Number: 20091202-0084.

Comment Date: 5 p.m. Eastern Time on Monday, December 21, 2009.

Docket Numbers: ER10-361-000.

Applicants: Westar Energy, Inc.

Description: Westar Energy, Inc submits Notice of Cancellation to First revised Rate Schedule 173 the Electric Power Supply Agreement, dated 9/14/87.

Filed Date: 11/30/2009.

Accession Number: 20091202-0086.

Comment Date: 5 p.m. Eastern Time on Monday, December 21, 2009.

Docket Numbers: ER10-362-000.

Applicants: Westar Energy, Inc.

Description: Westar Energy, Inc submits notice of cancellation to First Revised Rate Schedule FERC No 233.

Filed Date: 11/30/2009.

Accession Number: 20091202-0087.

Comment Date: 5 p.m. Eastern Time on Monday, December 21, 2009.

Docket Numbers: ER10-364-000.

Applicants: Southwest Power Pool, Inc.

Description: Southwest Power Pool, Inc submits an executed Designee Qualification and Novation Agreement.

Filed Date: 12/01/2009.

Accession Number: 20091202-0153.

Comment Date: 5 p.m. Eastern Time on Tuesday, December 22, 2009.

Docket Numbers: ER10-365-000.

Applicants: Southwest Power Pool, Inc.

Description: Southwest Power Pool, Inc submits an executed Designee Qualification and Novation Agreement.

Filed Date: 12/01/2009.

Accession Number: 20091202-0154.

Comment Date: 5 p.m. Eastern Time on Tuesday, December 22, 2009.

Docket Numbers: ER10-366-000.

Applicants: PJM Interconnection, L.L.C.

Description: PJM Interconnection, LLC submits revisions to the PJM Open Access Transmission Tariff and Reliability Assurance Agreement.

Filed Date: 12/01/2009.

Accession Number: 20091202-0155.

Comment Date: 5 p.m. Eastern Time on Tuesday, December 22, 2009.

Docket Numbers: ER10-367-000.

Applicants: Southwest Power Pool, Inc.

Description: Southwest Power Pool, Inc submits amendments to Section 9.7.1 of it Bylaws.

Filed Date: 12/01/2009.

Accession Number: 20091202-0156.

Comment Date: 5 p.m. Eastern Time on Tuesday, December 22, 2009.

Docket Numbers: ER10-368-000.

Applicants: Southwest Power Pool, Inc.

Description: Southwest Power Pool, Inc submits an executed Meter Agent Services Agreement between Westar Energy, Inc Generation Services etc.

Filed Date: 12/01/2009.

Accession Number: 20091202-0157.

Comment Date: 5 p.m. Eastern Time on Tuesday, December 22, 2009.

Docket Numbers: ER10-369-000.

Applicants: Ameren Services Company.

Description: Ameren Services Co submits Facilities Service Agreement between Ameren Services and Ameren Energy Generating Company.

Filed Date: 12/01/2009.

Accession Number: 20091202-0158.

Comment Date: 5 p.m. Eastern Time on Tuesday, December 22, 2009.

Docket Numbers: ER10-370-000.

Applicants: Southwest Power Pool, Inc.

Description: Southwest Power Pool, Inc submits notice cancellation of the Meter Agent Services Agreement between Kansas Electric Power Cooperative and the Empire District Electric Company.

Filed Date: 12/01/2009.

Accession Number: 20091202-0159.

Comment Date: 5 p.m. Eastern Time on Tuesday, December 22, 2009.

Docket Numbers: ER10-371-000.

Applicants: Florida Power & Light Company.

Description: Florida Power and Light Company submits transmittal letter and new Service Agreement 272 and 273 for Long-Term Point-to-Point Transmission Service with Georgia Transmission Corp.

Filed Date: 12/02/2009.

Accession Number: 20091202-0162.

Comment Date: 5 p.m. Eastern Time on Wednesday, December 23, 2009.

Docket Numbers: ER10-372-000.

Applicants: PJM Interconnection, L.L.C.

Description: PJM Interconnection, LLC submits an executed interconnection service agreement entered into among PJM et al.

Filed Date: 12/02/2009.

Accession Number: 20091202-0163.

Comment Date: 5 p.m. Eastern Time on Wednesday, December 23, 2009.

Docket Numbers: ER10-373-000.

Applicants: Florida Power & Light Company.

Description: Florida Power and Light Company submits five copies of transmittal letter and new Service Agreement 318, Interconnection Facilities Study Agreement etc.

Filed Date: 12/02/2009.

Accession Number: 20091203-0061.

Comment Date: 5 p.m. Eastern Time on Wednesday, December 23, 2009.

Docket Numbers: ER10-375-000.

Applicants: PJM Interconnection, L.L.C.

Description: PJM Interconnection, LLC submits Third Revised Sheet 618 et al. to FERC Electric Tariff Sixth Revised volume 1, to be effective 1/1/10.

Filed Date: 12/02/2009.

Accession Number: 20091203-0060.

Comment Date: 5 p.m. Eastern Time on Wednesday, December 23, 2009.

Docket Numbers: ER10-376-000.

Applicants: Southwest Power Pool, Inc.

Description: Southwest Power Pool, Inc submits revised pages to its Open Access Transmission Tariff to implement a rate change for the ITC Great Plains, LLC etc.

Filed Date: 12/02/2009.

Accession Number: 20091203-0059.

Comment Date: 5 p.m. Eastern Time on Wednesday, December 23, 2009.

Take notice that the Commission received the following electric securities filings:

Docket Numbers: ES09-58-001.

Applicants: Northeast Utilities Service Company.

Description: Amendment to Application of Northeast Utilities Service Company for authorization to issue short-term debt securities.

Filed Date: 12/03/2009.

Accession Number: 20091203-5055.

Comment Date: 5 p.m. Eastern Time on Monday, December 14, 2009.

Take notice that the Commission received the following open access transmission tariff filings:

Docket Numbers: OA08-91-002.

Applicants: Black Hills Power, Inc.

Description: Black Hills Power, Inc submits revised pages to the Schedule 4 of FERC Electric Tariff Second Substitute First Revised Volume 4.

Filed Date: 12/02/2009.

Accession Number: 20091203-0058.

Comment Date: 5 p.m. Eastern Time on Wednesday, December 23, 2009.

Take notice that the Commission received the following electric reliability filings

Docket Numbers: RD10-5-000.

Applicants: North American Electric Reliability Corp.

Description: Petition of the North American Electric Reliability Corporation for Approval of Interpretations to Reliability Standards MOD-001-1 and MOD-029-1.

Filed Date: 12/02/2009.

Accession Number: 20091202-5129.

Comment Date: 5 p.m. Eastern Time on Friday, January 08, 2010.

Take notice that the Commission received the following electric reliability filings:

Docket Numbers: RR09-4-001.

Applicants: Southwest Power Pool, Inc., North American Electric Reliability Corp.

Description: Compliance Filing of North American Electric Reliability Corporation and Southwest Power Pool, Inc. to September 17, 2009 Commission Order.

Filed Date: 12/01/2009.

Accession Number: 20091201-5173.

Comment Date: 5 p.m. Eastern Time on Tuesday, December 22, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-29663 Filed 12-11-09; 8:45 am]

BILLING CODE 6717-01-P